DEPARTMENT OF THE INTERIOR

National Park Service

[NPS-WASO-NAGPRA-NPS0030585; PPWOCRADN0-PCU00RP14.R50000]

Notice of Intent To Repatriate Cultural Items: California State University, Sacramento, Sacramento, CA

AGENCY: National Park Service, Interior.

ACTION: Notice.

SUMMARY: California State University, Sacramento, in consultation with the appropriate Indian Tribes or Native Hawaiian organizations, has determined that the cultural items listed in this notice meet the definition of unassociated funerary objects. Lineal descendants or representatives of any Indian Tribe or Native Hawaiian organization not identified in this notice that wish to claim these cultural items should submit a written request to the California State University, Sacramento. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the California State University, Sacramento at the address in this notice by September 2, 2020.

ADDRESSES: Dr. Dianne Hyson, Dean of the College of Social Sciences and Interdisciplinary

Studies, California State University, Sacramento, 6000 J Street Sacramento, CA 95819, telephone (916) 278-6504, email dhyson@csus.edu.

SUPPLEMENTARY INFORMATION: Notice is here given in accordance with the Native American Graves Protection and Repatriation Act (NAGPRA), 25 U.S.C. 3005, of the intent to repatriate cultural items under the control of the California State University, Sacramento, Sacramento, CA that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

Sometime during the 1920s and 1930s, 42 unassociated funerary objects were removed from a burial on private property, CA-SAC-157 (Wamser Mound), located on the south bank of the American River, near River Bend Park of Rancho Cordova, in north-central Sacramento County, CA. The unassociated funerary objects were in the possession of Anthony Zallio, a private collector, who posthumously donated his collection in 1951 to the Department of Anthropology at Sacramento State College, CA (now California State University, Sacramento). The 42 unassociated funerary objects are one broken bone tube, one small foot of a harpoon, one reworked obsidian biface, and 39 shell ornaments of various styles. (California State University, Sacramento does not have control of the associated human remains, and does not know their whereabouts.)

Archeological data from the site indicates occupation occurred during the Middle and Late Horizons and terminated sometime during the historic period. Geographical data from ethnohistoric and ethnographic sources indicate that the site was most likely occupied by Nisenan-speaking groups at the beginning of the historic period. Ethnographic data and expert testimony from Indian Tribes support the high level of interaction between groups in the lower Sacramento Valley and Delta regions that crosscut linguistic boundaries. In summary, the ethnographic, historical, and geographical evidence indicate that the funerary objects listed above are most closely affiliated with contemporary descendants of the Nisenan with more distant ties to neighboring groups, such as the Miwok.

Determinations Made by the California State University, Sacramento

Officials of the California State University, Sacramento have determined that:

• Pursuant to 25 U.S.C. 3001(3)(B), the 42 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Ione Band of Miwok Indians of California and the Wilton Rancheria, California.

Additional Requestors and Disposition

Lineal descendants or representatives of any Indian Tribe or Native Hawaiian organization not identified in this notice that wish to claim these cultural items should submit a written request with information in support of the claim to Dr. Dianne Hyson, Dean of the College of Social Sciences and Interdisciplinary Studies, California State University, Sacramento, 6000 J Street Sacramento, CA 95819, telephone (916) 278-6504, email dhyson@csus.edu, by September 2, 2020. After that date, if no additional claimants have come forward, transfer of control of the unassociated funerary objects jointly to the Ione Band of Miwok Indians of California and the Wilton Rancheria, California may proceed.

The California State University, Sacramento is responsible for notifying the Ione Band of Miwok Indians of California and the Wilton Rancheria, California that this notice has been published.

Dated: July 6, 2020.
Melanie O'Brien,
Manager, National NAGPRA Program.

[FR Doc. 2020-16782 Filed 7-31-20; 8:45 am]

BILLING CODE 4312-52-P